DEPARTMENT OF HOMELAND SECURITY

[Docket No. DHS-2011-0063]

Homeland Security Advisory Council, Correction

AGENCY: The Office of Policy, DHS.

ACTION: Notice of Open Teleconference Federal Advisory Committee Meeting; correction.

SUMMARY: The Office of Policy published a notice of meeting for the Homeland Security Advisory Council in the Federal Register on September 6, 2011. The document contained an incorrect time.

FOR FURTHER INFORMATION CONTACT: Mike Miron, 202-447-3135.

Correction

In the Federal Register of September 6, 2011, in FR Doc. 2011-22618, on page 55079, in the first column, correct the DATES caption to read: The HSAC conference call will take place from 2 p.m. to 3 p.m. EDT on Thursday, September 22, 2011. Please be advised that the meeting is scheduled for one hour and may end early if all business is completed before 3 p.m.

Dated: September 7, 2011.
Becca Sharp,
Executive Director, Homeland Security Advisory Council, DHS.

[FR Doc. 2011-23255 Filed 9-9-11; 8:45 am]

BILLING CODE 9110-9M-P